DEPARTMENT OF THE INTERIOR

Bureau of Ocean Energy Management

[Docket No. BOEM-2023-0029]

Notice of Availability of a Final Environmental Impact Statement for Ocean Wind LLC's Proposed Wind Energy Facility Offshore New Jersey

AGENCY: Bureau of Ocean Energy Management (BOEM), Interior.

ACTION: Notice of availability; final environmental impact statement.

SUMMARY: BOEM announces the availability of the final environmental impact statement (FEIS) for the construction and operations plan (COP) submitted by Ocean Wind LLC (Ocean Wind) for its proposed Ocean Wind 1 Offshore Wind Farm Project (Project) offshore New Jersey. The FEIS analyzes the potential environmental impacts of the Project as described in the COP (the proposed action) and the alternatives to the proposed action. The FEIS will inform BOEM's decision whether to approve, approve with modifications, or disapprove the COP.

ADDRESSES: The FEIS and detailed information about the Project, including the COP, can be found on BOEM's website at: https://www.boem.gov/renewable-energy/state-activities/ocean-wind-1.

FOR FURTHER INFORMATION CONTACT: Jessica Stromberg, BOEM Office of Renewable Energy Programs, 45600 Woodland Road, Sterling, Virginia 20166, (703) 787-1730 or jessica.stromberg@boem.gov.

SUPPLEMENTARY INFORMATION:

Proposed Action: Ocean Wind seeks approval to construct, operate, and maintain the Project: a wind energy facility and its associated export cables on the Outer Continental Shelf (OCS) offshore New Jersey. The Project would be developed within the range of design parameters outlined in the Ocean Wind 1 COP, subject to applicable mitigation measures. The Project as proposed in the COP would include up to 98 wind turbine generators (WTGs), up to 3 offshore high voltage alternating current substations, inter-array cables linking the individual turbines to the offshore substations, substation interconnector cables linking the substations to each other, offshore export cables, an onshore export cable system, 2 onshore substations, and connections to the existing electrical grid in New Jersey. The WTGs, offshore substations, inter-array cables, and substation interconnector cables would be located on the OCS approximately 13 nautical miles (15 statute miles) southeast of Atlantic City, New Jersey, within the area defined by Renewable Energy Lease OCS-A 0498 (Lease Area). The offshore export cables would be buried below the seabed surface in the OCS and State of New Jersey-owned submerged lands. The onshore export cables, substations, and grid connections would be located in Ocean County and Cape May County, New Jersey.

Alternatives: BOEM considered 26 alternatives when preparing the draft environmental impact statement (DEIS) and carried forward 6 alternatives for further analysis in the DEIS and FEIS. These six alternatives include five action alternatives and the no action alternative. Twenty alternatives were rejected because they did not meet the purpose and need for the proposed action or did not meet screening criteria, which are presented appendix C of the FEIS. The screening criteria included consistency with law and regulations, technical and economic feasibility, environmental impact, and geographic considerations.

Availability of the FEIS: The FEIS, Ocean Wind 1 COP, and associated information are available on BOEM's website at: https://www.boem.gov/renewable-energy/state-activities/ocean-wind-1. BOEM has distributed digital copies of the FEIS to all parties listed in appendix K of the FEIS. If you require a digital copy of the FEIS on a flash drive or paper copy, BOEM will provide one upon request, as long as copies are available. You may request a flash drive or paper copy of the FEIS by contacting Lisa Landers at (703) 787-1520 or Lisa.Landers@boem.gov.

Cooperating Agencies: The following 11 Federal agencies and State governmental entities participated as cooperating agencies in the preparation of the FEIS: Bureau of Safety and Environmental Enforcement; U.S. Environmental Protection Agency; National Marine Fisheries Service; National Park Service; U.S. Army Corps of Engineers; U.S. Coast Guard; U.S. Fish and Wildlife Service; Department of Defense; New Jersey Board of Public Utilities; New Jersey Department of Environmental Protection; and New York State Department of State.

Authority: 42 U.S.C. 4231 et seq. (NEPA, as amended) and 40 CFR 1506.6.

Karen Baker,
Chief, Office of Renewable Energy Programs, Bureau of Ocean Energy Management.

[FR Doc. 2023-10890 Filed 5-25-23; 8:45 am]

BILLING CODE 4340-98-P